DEPARTMENT OF VETERANS AFFAIRS

[OMB Control No. 2900-0115]

Agency Information Collection Activity under OMB Review: Supporting Statement Regarding Marriage

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before January 2, 2018.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0115” in any correspondence.

FOR FURTHER INFORMATION CONTACT: Cynthia Harvey-Pryor, Office of Quality, Privacy and Risk, Department of Veterans Affairs, 811 Vermont Avenue, Floor 5, Area 368, Washington, DC 20420, (202) 461-5870 or email cynthia.harvey-pryor@va.gov. Please refer to “OMB Control No. 2900-0115” in any correspondence.

SUPPLEMENTARY INFORMATION:

Authority: 38 U.S.C. 103.

Title: Supporting Statement Regarding Marriage (VA Form 21P-4171).

OMB Control Number: 2900-0115.

Type of Review: Reinstatement without change of a previously approved collection.

Abstract: 38 U.S.C. 103 requires a marital relationship to be established before benefits may be paid to, or for, a spouse of a Veteran. VA codified this requirement at 38 CFR 3.1(j), which states “a marriage valid under the law of the place where the parties resided at the time of marriage, or the law of the place where the parties resided when the right to benefits accrued.”

The information requested under this collection is necessary to establish the common-law marriage of a Veteran and the dependency of the Veteran's common-law spouse for the purpose of paying monetary benefits.

VBA utilizes VA Form 21P-4171 to collect information from third-parties regarding claimed common-law marriage between Veterans and spouses/surviving spouses. VBA uses the information collected to determine whether or not the claimed common-law marriage is valid under the law of the place where the parties resided at the time of marriage, or the law of the place where the parties resided when the right to benefits accrued, to comply with 38 CFR 3.1(j) and pay monetary benefits.

An agency may not conduct or sponsor, and a person is not required to respond to a collection of information unless it displays a currently valid OMB control number. The Federal Register Notice with a 60-day comment period soliciting comments on this collection of information was published at 82 FR 44032 on September 20, 2017.

Affected Public: Individuals or Households.

Estimated Annual Burden: 800 hours.

Estimated Average Burden per Respondent: 20 minutes.

Frequency of Response: One time.

Estimated Number of Respondents: 2,400.

By direction of the Secretary.
Cynthia Harvey-Pryor,
Department Clearance Officer, Office of Quality, Privacy and Risk, Department of Veterans Affairs.

[FR Doc. 2017-25808 Filed 11-29-17; 8:45 am]

BILLING CODE 8320-01-P